DEPARTMENT OF HOMELAND SECURITY

[Docket No. DHS-2009-0160]

Homeland Security Advisory Council

AGENCY: The Office of Policy, DHS.

ACTION: Committee management; Notice of partially closed federal advisory committee meeting.

SUMMARY: The Homeland Security Advisory Council (HSAC) will meet on February 3, 2010, in New York, New York. The meeting will be partially closed to the public.

DATE: The HSAC will meet February 3, 2010, from 9 a.m. to 3 p.m. and the meeting is open to the general public from 10:30 a.m. to 12 p.m. EST. The meeting is closed from 9 a.m. to 10:30 a.m. and then again from 12 p.m. to 3 p.m.

ADDRESSES: The open portion of the meeting will be held at the Grand Hyatt New York, 109 East 42nd Street at Grand Central Terminal, in the Empire Ballroom in New York, New York. Requests to have written material distributed to each member of the committee prior to the meeting must reach the below contact person by January 25, 2010. Comments must be identified by Federal Register Notice DHS-2009-0160 and may be submitted by one of the following methods:

• Federal eRulemaking Portal: http://www.regulations.gov. Follow the instructions for submitting comments.

• E-mail: HSAC@dhs.gov. Fax: 202-282-9207.

• Mail: Homeland Security Advisory Council, 1100 Hampton Park Boulevard, Mailstop 0850, Capitol Heights, MD 20745.

Instructions: All submissions received must include the words “Department of Homeland Security” and DHS-2009-0160. Comments received will be posted without alteration at http://www.regulations.gov, including provided personal information.

Docket: For docket access to read background documents or comments received, go to http://www.regulations.gov.

FOR FURTHER INFORMATION CONTACT: Homeland Security Advisory Council, (202) 447-3135, HSAC@dhs.gov.

SUPPLEMENTARY INFORMATION: Notice of this meeting is given pursuant to the Federal Advisory Committee Act, 5 U.S.C. App. 2. The HSAC provides independent advice to the Secretary of the Department of Homeland Security to aid in the creation and implementation of critical and actionable policies and capabilities across the spectrum of homeland security operations. The HSAC periodically reports to the Secretary, as requested, on such matters. The HSAC serves as the Secretary's primary advisory body with the goal of providing strategic, timely and actionable advice.

The HSAC will meet publicly to swear in new Council members, receive observations and remarks from DHS senior leadership, and review and deliberate recommendations from the Homeland Security Advisory Council's Sustainability and Efficiency Task Force and receive a report from the Quadrennial Review Advisory Council on its support of the Quadrennial Homeland Security Review program.

Closed portions of the meeting will include updates on operational challenges, intelligence briefings, and pre-decisional policies. The briefings will include information on sensitive homeland security procedures and the capabilities of the Department of Homeland Security components. The meeting will also include informational briefings of the Department's sensitive processes including law enforcement and transportation security procedures. HSAC members will receive classified and sensitive intelligence briefings during the closed session.

Basis for Closure: In accordance with Section 10(d) of the Federal Advisory Committee Act, it has been determined that this HSAC meeting concerns matters that would likely “disclose investigatory records compiled for law enforcement purposes, or information which if written would be contained in such records * * * [and] the production of such records or information would * * * disclose investigative techniques and procedures”, 5 U.S.C. 552b(c)(7)(E), and would likely “significantly frustrate implementation of a proposed agency action” within the meaning of 5 U.S.C. 552b(c)(9)(B). Discussion of ongoing investigations with Department of Homeland Security enforcement Components and outside law enforcement partners fall within the meaning of 5 U.S.C. 552b(7)(E) insofar as they will “disclose investigative techniques and procedures.” Additionally, release of information presented during the briefings and the nature of the discussion would lead to premature disclosure of information on Department of Homeland Security actions that would be “likely to significantly frustrate implementation of a proposed agency action.” Therefore, the portion of the HSAC's meeting from 9 a.m. to 10:30 p.m. EST and then from 1 p.m. to 3 p.m. EST is closed to the public.

Public Attendance: Members of the public must pre-register to attend the public session and seating is available on a first-come, first-served basis per the above procedures. For security reasons, we request that any member of the public wishing to attend the public session provide his or her full legal name, date of birth, e-mail, and phone number to the HSAC no later than 5:00 p.m. EST on January 25, 2010. Please submit requests to attend via e-mail at HSAC@dhs.gov or via phone at (202) 447-3135. Photo identification may be required for entry into the public session. Registration begins at 9:00 a.m. Those attending the public session of the meeting must be present and seated by 9:30 a.m.

Identification of Services for Individuals with Disabilities: For information on facilities or services for individuals with disabilities, or to request special assistance at the meeting, contact the HSAC as soon as possible.

Dated: January 14, 2010.
Rebecca L. Sharp,
Executive Director, Homeland Security Advisory Council.

[FR Doc. 2010-942 Filed 1-15-10; 8:45 am]

BILLING CODE 9010-9M-P